DEPARTMENT OF TRANSPORTATION

Federal Transit Administration

[Docket No: FTA-2008-0009]

National Transit Database: Policy on Reporting of Coordinated Human Services Transportation Data

AGENCY: Federal Transit Administration (FTA), DOT.

ACTION: Notice of Proposed New Policy on Reporting of Coordinated Human Services Transportation Data to the National Transit Database.

SUMMARY: This notice provides interested parties with the opportunity to comment on changes to the Federal Transit Administration's (FTA) National Transit Database (NTD) policy on the reporting of coordinated human services transportation data. For many years, it has been FTA's policy to require transit agencies reporting demand response service to the NTD to exclude service data for certain sponsored trips from their reports. These trips were typically arranged and paid for by a third party for a specific group of clients (such as participants in programs like Medicaid, Head Start, sheltered workshops, or assisted living centers), and were often not open to the general public at large. Data for these trips were thus excluded from the calculation of the apportionment of Urbanized Area Formula Grants. In light of FTA's policies and guidance on Coordinated Human Services Transportation, FTA is proposing to clarify this policy for the 2008 NTD Report Year to specify that transit agencies are to report data for all of their demand response service as public transportation, except for those services that are defined as charter service under FTA's recently revised charter rule (49 CFR Part 604, 73 FR 2326, January 14, 2008). FTA also proposes to require transit agencies in urbanized areas to separately report their “regular unlinked passenger trips” and their “sponsored demand response unlinked passenger trips” for demand response service. FTA invites the public to comment on this proposed policy change.

DATES: Comments must be received on or before September 11, 2008. FTA will consider comments filed after this date to the extent practicable.

ADDRESSES: You may submit comments [identified by DOT Docket ID Number FTA-2008-0009] at the Federal eRulemaking Portal at: http://www.regulations.gov. Follow the online instructions for submitting comments.

Fax: 202-493-2251.

Mail: Docket Management Facility: U.S. Department of Transportation, 1200 New Jersey Avenue, SE., West Building Ground Floor, Room W12-140, Washington, DC 20590-0001.

Hand Delivery or Courier: U.S. Department of Transportation, 1200 New Jersey Ave., SE., West Building Ground Floor, Room W12-140, Washington, DC 20590-0001 between 9 a.m. and 5 p.m. ET, Monday through Friday, except Federal holidays.

Instructions: When submitting comments, you must use docket number FTA-2008-0009. This will ensure that your comment is placed in the correct docket. If you submit comments by mail, you should submit two copies and include the above docket number.

Note that all comments received will be posted, without change, to

Note that all comments received will be posted, without change, to http://www.regulations.gov including any personal identifying information.

FOR FURTHER INFORMATION CONTACT: For program issues, John D. Giorgis, Office of Budget and Policy, (202) 366-5430 (telephone); (202) 366-7989 (fax); or john.giorgis@dot.gov (e-mail). For legal issues, Richard Wong, Office of the Chief Counsel, (202) 366-0675 (telephone); (202) 366-3809 (fax); or richard.wong@dot.gov (e-mail).

SUPPLEMENTARY INFORMATION:

I. Background

The National Transit Database (NTD) is the Federal Transit Administration's (FTA's) primary database for statistics on the transit industry. Congress established the NTD to “help meet the needs of * * * the public for information on which to base public transportation service planning. * * *” (49 U.S.C. 5335). Currently, over 650 transit providers in urbanized areas report to the NTD through an Internet-based reporting system. Each year, performance data from these submissions are used to apportion over $5 billion of FTA funds under the Urbanized Area Formula Grants and the Fixed Guideway Modernization Grants Programs. These data are also used in the annual National Transit Summaries and Trends report, the biennial Conditions and Performance Report to Congress, and in meeting FTA's obligations under the Government Performance and Results Act.

II. Proposed Policy Change

For many years, it has been FTA's policy to require transit providers reporting demand response service to the NTD to exclude certain trips that were sponsored by a third party from their reports. A “trip sponsor” refers to a third party that reimbursed the transit provider in whole or in part for the trip, and in many cases, handled all or part of the trip arrangements. These trips were typically arranged and paid for by some third party for a specific group of clients (such as participants in programs like Medicaid, Head Start, sheltered workshops, or assisted living centers), and were often not open to the general public at large. Data for these trips were thus excluded from the calculation of the apportionment of Urbanized Area Formula Grants.

FTA proposes to clarify this policy in light of FTA's policy and guidance on Coordinated Human Services Transportation, and in light of PTA's recently revised charter rule (49 CFR Part 604, 73 FR 2326, January 14, 2008). FTA proposes in this notice that transit providers reporting to the NTD for the 2008 NTD Report Year, should report all of their demand response services to individuals as public transportation services, regardless of whether the trip was sponsored in whole or in part by a third party. Trips that meet the definition of charter service at 49 CFR 604.3(c) must be reported on a quarterly basis on the charter registration Web site, as required by the charter rule, and data for these trips should not be reported as revenue service to the NTD.

A key component of FTA's charter rule is the concept of “exclusivity.” Charter service is defined, in part, as “transportation provided * * *, at the request of a third party for the exclusive use of a bus or van at a negotiated price,” with the caveat that “charter service * * * does not include demand response service to individuals.” Transit providers reporting to the NTD may distinguish their demand response services, particularly their sponsored demand response service, from charter service a number of ways: (1) Charter service is exclusive, whereas demand response service is shared-ride. If the transit provider may mix passengers from a trip sponsor with other demand response passengers on the same trip, then the trip is on shared-ride service, and service data for that trip should be reported to the NTD as public transportation. (2) Charter service is service to a group, whereas demand response service is service to individuals. Service to individuals can be identified by a vehicle trip that includes multiple origins, multiple destinations, or both, even when the clients have exclusive use of the vehicle. Some demand response sponsored trips carried out as part of a Coordinated Human Services Transportation Plan, such as trips for Head Start, assisted living centers, or sheltered workshops, may be provided on an exclusive basis, but are provided to service multiple origins to a single destination, a single origin to multiple destinations, or even multiple origins to multiple destinations. Transit providers should report service data for these trips to the NTD as public transportation. (3) Charter service is for a specific event or function, whereas demand response service is regular and continuing. Some demand response sponsored trips carried out as part of a Coordinated Human Services Transportation Plan may be exclusive, and may be for a group from a single origin to a single destination, but may occur on a frequently reoccurring basis, such as daily, weekly, biweekly, or monthly. Transit providers should report service data for these trips to the NTD as public transportation. Demand response service that is exclusive, from a single origin to a single destination, and that reoccurs on a less-frequent basis that once per month should be considered to be charter service. Transit providers should report these services to the charter registration Web site.

Transit providers reporting to the NTD must specifically exclude from their reports on revenue service any service that meets the definition of “charter service” under the charter rule, and thus, must be reported to the charter registration Web site. This exclusion includes charter service legally provided to a Qualified Human Services Organization (QHSO), as provided for by the charter rule.

To implement this policy, FTA proposes to require transit providers reporting to the NTD to report their regular unlinked passenger trips and their sponsored unlinked passenger trips separately for demand response service. Reporters would not have to make this distinction for any other modes of service. Regular unlinked passenger trips would refer to those demand response trips that are arranged and paid for by individuals, even when those individuals pay the fare with user-side subsidies, such as coupons or passes provided a QHSO. Regular unlinked passenger trips would include all demand response trips provided pursuant to the requirements of the Americans with Disabilities Act of 1990. Sponsored unlinked passenger trips would include all trips where the transit provider is directly reimbursed in whole or in part by some third party that has helped arrange for the trips. This distinction would make reporting of these services for urbanized area transit agencies consistent with the reporting of these services for transit agencies in rural areas. Since this proposal is being announced late in the 2008 Report Year, FTA will grant a waiver from reporting separately regular and sponsored unlinked passenger trips for the 2008 Report Year to any NTD Reporter that requests such a waiver.

Issued in Washington, DC, this 1st day of August 2008.
James S. Simpson,
Administrator.

[FR Doc. E8-18388 Filed 8-11-08; 8:45 am]

BILLING CODE 4910-57-M